DEPARTMENT OF ENERGY

Notice of Request for Information (RFI) on Planning and Operation Models and Data Analytics for Solar Grid Integration

AGENCY: Solar Energy Technologies Office, Office of Energy Efficiency and Renewable Energy, Department of Energy.

ACTION: Request for information.

SUMMARY: The U.S. Department of Energy Solar Energy Technologies Office (SETO) is issuing this request for information (RFI) to solicit feedback from industry, academia, research laboratories, government agencies, and other stakeholders. This RFI will inform SETO's strategic planning on research related to the integration of distributed solar energy resources. Specifically, this RFI will inform strategies relating to the modeling, monitoring, predicting, and controlling of solar photovoltaic (PV) systems. As the penetration of solar PV on the grid grows, these strategies will become more important as grid operators consider how solar adoption impacts grid planning and operations technologies.

DATES: Responses to the RFI must be received no later than 12 p.m. (ET) on August 30, 2019.

ADDRESSES: Interested parties are to submit comments electronically to SETO.RFI.SI@ee.doe.gov. Responses to this RFI must be submitted electronically and provided as attachments to an email. It is recommended that attachments with file sizes exceeding 25MB be compressed (i.e., zipped) to ensure message delivery. Responses must be provided as a Microsoft Word (.docx) attachment to the email and have 12 point font and 1 inch margins. Only electronic responses will be accepted.

Please identify answers by responding to a specific question or topic if applicable. Respondents may answer as many or as few questions as desired at their discretion. The complete RFI document DE-FOA-0002157 is located at https://eere-exchange.energy.gov/.

FOR FURTHER INFORMATION CONTACT: Questions may be addressed to Mr. Kemal Celik, (510) 316-6513 or SETO.RFI.SI@ee.doe.gov. Further instructions can be found in the RFI document DE-FOA-0002157 posted on EERE Exchange.

SUPPLEMENTARY INFORMATION: SETO is seeking feedback from industry, academia, research laboratories, government agencies, and other stakeholders. The main focus is enabling high penetration of distributed behind-the-meter (BTM) and small-scale solar generation and decrease its curtailment through better data acquisition and its numerical analysis. Responders are welcome to answer all or subsets of the questions. The RFI DE-FOA-0002157 is available at: https://eere-exchange.energy.gov/.

Confidential Business Information

Pursuant to 10 CFR 1004.11, any person submitting information that he or she believes to be confidential and exempt by law from public disclosure should submit via email two well marked copies: One copy of the document marked “confidential” including all the information believed to be confidential, and one copy of the document marked “non-confidential” with the information believed to be confidential deleted. DOE will make its own determination about the confidential status of the information and treat it according to its determination.

Factors of interest to DOE when evaluating requests to treat submitted information as confidential include: (1) A description of the items, (2) whether and why such items are customarily treated as confidential within the industry, (3) whether the information is generally known by or available from other sources, (4) whether the information has previously been made available to others without obligation concerning its confidentiality, (5) an explanation of the competitive injury to the submitting person that would result from public disclosure, (6) when such information might lose its confidential character due to the passage of time, and (7) why disclosure of the information would be contrary to the public interest.

Signed in Washington, DC on August 1, 2019.
Charles Gay,
Director, Solar Energy Technologies Office.

[FR Doc. 2019-16998 Filed 8-7-19; 8:45 am]

BILLING CODE 6450-01-P